ENVIRONMENTAL PROTECTION AGENCY

[EPA-HQ-OW-2017-0260; FRL-9968-45-OW]

Extension of Public Comment Period for the Draft Updated Aquatic Life Ambient Water Quality Criteria for Aluminum in Freshwater

AGENCY: Environmental Protection Agency (EPA).

ACTION: Notice of availability.

SUMMARY: The Environmental Protection Agency (EPA) is extending the comment period for the Draft Updated Aquatic Life Ambient Water Quality Criteria for Aluminum in Freshwater. The current comment period closes on September 26, 2017. The public comment period will be extended for an additional 30 days.

DATES: Comments must be received on or before October 26, 2017.

ADDRESSES: Submit your comments, identified by Docket ID No. EPA-HQ-OW-2017-0260, to the Federal eRulemaking Portal: http://www.regulations.gov. Follow the online instructions for submitting comments. Once submitted, comments cannot be edited or withdrawn. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Diana Eignor, Health and Ecological Criteria Division, Office of Water (Mail Code 4304T), Environmental Protection Agency, 1200 Pennsylvania Avenue NW., Washington, DC 20460; telephone: (202) 566-1143; email address: eignor.diana@epa.gov.

SUPPLEMENTARY INFORMATION: On July 28, 2017, EPA announced the availability of the Draft Updated Aquatic Life Ambient Water Quality Criteria for Aluminum in Freshwater and opened a 60-day public review and comment period to seek additional scientific views, data, and information regarding the science and technical approach used in the derivation of the draft document.

The original deadline to submit comments was September 26, 2017. This action extends the comment period for 30 days. Written comments must now be received by October 26, 2017. The draft report and other supporting materials may also be viewed and downloaded from EPA's Web site at https://www.epa.gov/wqc/2017-draft-aquatic-life-criteria-aluminum-freshwater-documents.

Dated: September 20, 2017.
Michael H. Shapiro,
Acting Assistant Administrator.

[FR Doc. 2017-20597 Filed 9-25-17; 8:45 am]

BILLING CODE 6560-50-P